DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Southeast Region Vessel Identification Requirements.

Form Number(s): None.

OMB Approval Number: 0648-0358.

Type of Request: Regular submission.

Burden Hours: 6,133.

Number of Respondents: 8,043.

Average Hours Per Response: For the majority of vessels, 45 minutes. For those requiring color coding, an additional 30 minutes is needed.

Needs and Uses: The regulations at 50 CFR 622.6 and 640.6 require that all vessels with Federal permits to fish in the Southeast display the vessel's official number and, in some cases, a color code. The markings must be in a specific size on port and starboard sides of the deckhouse or hull, and a weatherdeck. The display of the identifying markings aids in fishery law enforcement.

Affected Public: Business or other for-profit organizations; individuals or households.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: April 21, 2005.
Gwellnar Banks,
Management Analyst, Office of the Chief Information Officer.

[FR Doc. 05-8312 Filed 4-25-05; 8:45 am]

BILLING CODE 3510-22-P